DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Brian Bailey, Ph.D., at 240-669-5128 or 301-201-9217, or by email at bbailey@mail.nih.gov. Licensing information may be obtained by communicating with the Technology Transfer and Intellectual Property Office, National Institute of Allergy and Infectious Diseases, 5601 Fishers Lane, Rockville, MD 20852: tel. 301-496-2644. A signed Confidential Disclosure Agreement will be required to receive copies of unpublished information related to the invention.

SUPPLEMENTARY INFORMATION: Technology description follows:

SARS-CoV-2 Pseudotyping Plasmids for Cutting-Edge Studies

Description of Technology

NIAID scientists have developed plasmids that allow for production of pseudoviruses expressing SARS-CoV-2 spike protein. As SARS-CoV-2 is a lethal airborne virus, it must be handled in high-containment Biosafety Level 3 (BSL-3) laboratories that require strict airflow, ventilation and decontamination procedures. The pseudotyping plasmids of this invention provide a secure platform for exploring SARS-CoV-2 dynamics without the need for high-risk handling of live virus and ensure a controlled environment for scientists to study SARS-CoV-2 more expeditiously in standard Biosafety Level 2 (BSL-2) laboratories. The plasmids can be used for diverse SARS-CoV-2 research applications, including the study of newly emerging or potential future variants of interest.

This technology is available for licensing for commercial development in accordance with 35 U.S.C. 209 and 37 CFR part 404, as well as for further development and evaluation under a research collaboration.

Potential Commercial Applications

• Research material that can be used in the development of neutralization assays

Competitive Advantages

• Expedite SARS-CoV-2 related experiments by enabling them to be conducted in laboratories with a lower Biosafety Level (BSL-2) than that required for handling SARS-CoV-2 (BSL-3)

Development Stage

• Research material.

Inventors

Dr. Barney Graham, Dr. Lingshu Wang, Dr. John Mascola, Dr. Kizzmekia Corbett, all of NIAID.

Intellectual Property

HHS Reference No. E-223-2020-0.

Licensing Contact

To license this technology, please contact Brian Bailey, Ph.D.; 240-669-5128 or 301-201-9217; bbailey@mail.nih.gov, and reference E-223-2020.

Dated: February 14, 2024.
Surekha Vathyam,
Deputy Director, Technology Transfer and Intellectual Property Office, National Institute of Allergy and Infectious Diseases.

[FR Doc. 2024-04425 Filed 3-1-24; 8:45 am]

BILLING CODE 4140-01-P